DEPARTMENT OF ENERGY

Federal Energy Regulatory Commission

Combined Notice of Filings #1

Take notice that the Commission received the following electric rate filings:

Docket Numbers: ER24-679-002.

Applicants: Duke Energy Florida, LLC, Duke Energy Carolinas, LLC.

Description: Compliance filing: Duke Energy Florida, LLC submits tariff filing per 35: DEF—Amendment to Second Compliance Filing—Att. J to be effective 4/1/2024.

Filed Date: 7/24/24.

Accession Number: 20240724-5089.

Comment Date: 5 p.m. ET 8/14/24.

Docket Numbers: ER24-1676-002.

Applicants: MEMS Industrial Supply LLC.

Description: Tariff Amendment: Amendment to 2 to be effective 4/2/2024.

Filed Date: 7/24/24.

Accession Number: 20240724-5056.

Comment Date: 5 p.m. ET 8/14/24.

Docket Numbers: ER24-2581-000.

Applicants: Energy Prepay III, LLC.

Description: Baseline eTariff Filing: Baseline new to be effective 7/24/2024.

Filed Date: 7/23/24.

Accession Number: 20240723-5114.

Comment Date: 5 p.m. ET 8/13/24.

Docket Numbers: ER24-2582-000.

Applicants: American Electric Power Service Corporation, PJM Interconnection, L.L.C.

Description: 205(d) Rate Filing: American Electric Power Service Corporation submits tariff filing per 35.13(a)(2)(iii: AEP submits update to Att. 1 of ILDSA, SA No. 1336 to be effective 7/1/2024.

Filed Date: 7/24/24.

Accession Number: 20240724-5024.

Comment Date: 5 p.m. ET 8/14/24.

Docket Numbers: ER24-2583-000.

Applicants: Tri-State Generation and Transmission Association, Inc.

Description: 205(d) Rate Filing: Initial Filing of Rate Schedule FERC No. 376 to be effective 6/24/2024.

Filed Date: 7/24/24.

Accession Number: 20240724-5048.

Comment Date: 5 p.m. ET 8/14/24.

Docket Numbers: ER24-2584-000.

Applicants: ISO New England Inc., New England Power Pool Participants Committee.

Description: 205(d) Rate Filing: ISO New England Inc. submits tariff filing per 35.13(a)(2)(iii: ISO-NE and NEPOOL; Revisions to Expand Fuel Price Adjustment Functionality to be effective 12/31/9998.

Filed Date: 7/24/24.

Accession Number: 20240724-5086.

Comment Date: 5 p.m. ET 8/14/24.

Docket Numbers: ER24-2585-000.

Applicants: AEP Texas Inc.

Description: 205(d) Rate Filing: AEPTX-Bracero Pecan Storage Generation Interconnection Agreement to be effective 6/27/2024.

Filed Date: 7/24/24.

Accession Number: 20240724-5112.

Comment Date: 5 p.m. ET 8/14/24.

Docket Numbers: ER24-2586-000.

Applicants: AEP Texas Inc.

Description: 205(d) Rate Filing: AEPTX-S&S Renewables (Ross) Generation Interconnection Agreement to be effective 6/27/2024.

Filed Date: 7/24/24.

Accession Number: 20240724-5115.

Comment Date: 5 p.m. ET 8/14/24.

Take notice that the Commission received the following electric securities filings:

Docket Numbers: ES24-43-000.

Applicants: Wolverine Power Supply Cooperative, Inc.

Description: Application Under Section 204 of the Federal Power Act for Authorization to Issue Securities of Wolverine Power Supply Cooperative, Inc.

Filed Date: 7/24/24.

Accession Number: 20240724-5096.

Comment Date: 5 p.m. ET 9/23/24.

Take notice that the Commission received the following electric reliability filings:

Docket Numbers: RR24-4-000.

Applicants: North American Electric Reliability Corporation.

Description: North American Electric Reliability Corporation submits Five-Year Electric Reliability Organization (ERO) Performance Assessment for the 2019-2023 Assessment Period.

Filed Date: 7/19/24.

Accession Number: 20240719-5260.

Comment Date: 5 p.m. ET 8/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 24, 2024.
Debbie-Anne A. Reese,
Acting Secretary.

[FR Doc. 2024-16743 Filed 7-29-24; 8:45 am]

BILLING CODE 6717-01-P